DEPARTMENT OF AGRICULTURE

Forest Service

Bull Run Watershed Management Unit Agreement, Multnomah County, OR

AGENCY: Forest Service, USDA.

ACTION: Notice of Availability of Final Agreement.

SUMMARY: The Mt. Hood National Forest (Forest) in coordination with the City of Portland Water Bureau (City) has prepared a new Bull Run Watershed Management Unit Agreement pursuant to Public Law 95-200, section 2(d). This Agreement will guide and be applicable to all occupancy, use, and management of the Bull Run Watershed Management Unit by the City and the Forest. This Agreement replaces the 1979 Memorandum of Understanding (MOU). This new Agreement provides the revised administrative direction and agreements needed to structure the parties' roles, responsibilities, business processes, and working relationships for the coming decades. The Agreement was approved on December 17, 2007. A copy of the Final Agreement is available on the following Internet Web sites, http://www.fs.fed.us/r6/mthood under projects & plans, or http://www.portlandonline.com/water/. Hard copies of the Final Agreement may be obtained by contacting the contact person listed below.

FOR FURTHER INFORMATION CONTACT: Questions about the Agreement or requests for copies should be directed to Rick Acosta, Mt. Hood National Forest, Public Affairs Officer, 16400 Champion Way, Sandy, Oregon 97055-7248, (e-mail: racosta@fs.fed.us), or phone: 503-668-1791, or Terry Black, City of Portland Water Bureau, Outreach Specialist, 1120 SW., 5th Avenue, Portland, OR 97204, (e-mail: Terry.Black@ci.portland.or.us), or phone: 503-823-1168.

SUPPLEMENTARY INFORMATION: The Bull Run watershed, located in the Mt. Hood National Forest, is the largest and oldest of the several water supplies serving the Portland metropolitan area. Its role in the region's past, present and future, along with its unprecedented level of water quality, make it a high priority for both the City and the Forest Service to take the steps necessary to ensure its continuing quality, productivity and protection.

As the City and the Forest Service began to look closely at the administrative and policy frameworks that guided their interactions they noted that much of that framework dated from the late 1970s and arose from the direction provided in the 1977 Bull Run Management Act (Pub. L. 95-200). As little of that framework had been updated over time, its applicability to current issues and needs is limited. Thus, this new agreement replaces the 1979 MOU, aligns practice with existing legislation, and provides the revised administrative direction and agreements needed to structure the parties' roles, responsibilities, business processes, and working relationships for the coming decades.

The City and the Forest Service, along with community interests in the greater Portland metropolitan area, have had a long and sometimes contentious history of working together to protect and manage the valuable ecological and water resources of the Bull Run watershed. But with the coming of the 21st century, the issues and conflicts in policy and direction that held attention for the last fifty years have all but disappeared. Now, the parties are turning to the future, responding to new fiscal realities, and working together to frame the structures, processes, roles and responsibilities that will allow them to act effectively as joint stewards of this valuable regional and national resource, in concert with citizens who increasingly desire to redeem their responsibilities in stewardship of their lands.

Officials from the City of Portland and the Mount Hood National Forest prepared this new Agreement between the City and the Forest Service to identify preferred administrative arrangements for their joint management of the Bull Run Watershed Management Unit. The purpose and hope of the Agreement is to document a new and more relevant relationship between the City and the Forest Service for the long-term stewardship of the Bull Run Watershed Management Unit that is built on a firm foundation of citizen involvement.

The final Agreement was approved on December 17, 2007. In completing the Agreement, the Forest and the City responded to comments received during the comment period and also jointly prepared a Report to the Community. This Report discussed the history and background of discussions that led to the new agreement. This Report is also available on both of the Web sites listed above. The Agency officials are Gary Larsen, Forest Supervisor, Mt. Hood National Forest for the Forest Service, and the City official is Randy Leonard, Commissioner-in-Charge, City of Portland Water Bureau for the City of Portland.

(Authority: Sec. 2, Pub. L. 95-200, 91 Stat. 1425 (16 U.S.C. 482b)

Dated: January 2, 2008.
Gary L. Larsen,
Forest Supervisor.

[FR Doc. 08-229 Filed 1-22-08; 8:45 am]

BILLING CODE 3410-11-M